DEPARTMENT OF HOMELAND SECURITY

U.S. Citizenship and Immigration Services

[CIS No. 2823-25; DHS Docket No. USCIS-2025-0008]

Notice of Implementation of 2025 Naturalization Civics Test

AGENCY: Department of Homeland Security, U.S. Citizenship and Immigration Services.

ACTION: Notice.

SUMMARY: The Department of Homeland Security (DHS or the Department), U.S. Citizenship and Immigration Services (USCIS) is reimplementing the 2020 Naturalization Civics Test, which was originally announced on November 13, 2020, with some modifications (henceforth “2025 Naturalization Civics Test”). This 2025 Naturalization Civics Test satisfies the statutory requirement for aliens to demonstrate a knowledge and understanding of the fundamentals of American history, and of the principles and form of government of the United States in pursuit of naturalization. This notice does not change the English language parts of the naturalization test (reading, writing, speaking, and understanding).

DATES: This notice is effective on September 18, 2025. USCIS will administer the 2025 Naturalization Civics Test to aliens who file their naturalization applications on or after October 20, 2025.

FOR FURTHER INFORMATION CONTACT: Residence and Naturalization Division, Office of Policy and Strategy, U.S. Citizenship and Immigration Services, Department of Homeland Security, 5900 Capital Gateway Drive, Camp Springs, MD 20746; or by phone at 240-721-3000.

SUPPLEMENTARY INFORMATION:

I. Purpose

United States citizenship confers rights, privileges, and responsibilities that are vital to the security and safety of the United States, unification around a common American identity, and dedication to the common welfare of the American people. The ability to become a naturalized citizen is the most meaningful immigration benefit the United States can bestow on an alien. In order to become a United States citizen, an alien must be willing and able to accept all of the responsibilities of being a United States citizen in return for certain rights and privileges. The rights of U.S. citizenship include the right to vote and the right to hold public office. The responsibilities of U.S. citizenship include serving on federal juries and most state juries, supporting and defending the United States and the U.S. Constitution, bearing loyalty to the United States and abjuring allegiance to any other country, and serving in the military or performing civilian service when called upon by the government.¹

¹ See USCIS, Citizen's Almanac (Form M-76), pg. 2, https://www.uscis.gov/sites/default/files/document/guides/M-76.pdf (Rev. Sept. 2014).

In recognition that aliens applying for naturalization must be willing and able to carry out these rights and responsibilities, Congress, among other things, required that such aliens must demonstrate English proficiency, knowledge of the fundamentals of American history, and U.S. government and civics.²

² INA sec. 312, 8 U.S.C. 1423; see 8 CFR part 312.

Demonstration of English and civics knowledge is essential to showing an alien's commitment to fulfill the rights and responsibilities of U.S. citizenship and to actively assimilate into American society. Understanding the rights and responsibilities of citizenship, engaging with the government, and fully contributing to the democratic process all rely on a basic understanding of U.S. government and civics. Further, knowledge of U.S. government and civics enables naturalized citizens to more fully engage with local and federal government agencies and be active and responsible members of their local communities, furthering the success of our democracy.

II. Background

Legal Authority

Section 312 of the Immigration and Nationality Act (INA), 8 U.S.C. 1423, outlines the civics requirements for naturalization.³ Candidates for naturalization must have “knowledge and understanding of the fundamentals of the history, and of the principles and form of government, of the United States.” See INA sec. 312(a)(2), 8 U.S.C. 1423(a)(2).⁴ Under INA sec. 312(b)(3), special consideration is provided for the civics test for aliens who are over the age of 65 when they file their naturalization application and have been living in the United States for periods totaling at least 20 years subsequent to lawful admission for permanent residence. In addition, INA sec. 332(a), 8 U.S.C. 1443(a), provides specific authority for administering the civics test. Specifically, the INA states that the Secretary “shall make such rules and regulations as may be necessary to carry into effect the provisions of this part and is authorized to prescribe the scope and nature of the examination of applicants for naturalization as to their admissibility to citizenship.” INA sec. 332(b), 8 U.S.C. 1443(b), provides authority to “promote instruction and training in citizenship responsibilities of applicants for naturalization.” DHS develops and administers these tests pursuant to its regulations in 8 CFR part 312.

³ Although several provisions of the INA discussed in this final rule refer exclusively to the “Attorney General,” such provisions now refer to the Secretary of Homeland Security by operation of the Homeland Security Act of 2002 (HSA) (Pub. L. 107-296, 116 Stat. 2135) (codified at 6 U.S.C. 101 et. seq.). See 6 U.S.C. 202(3), 251, 271(b), 542 note, 557; see also 8 U.S.C. 1103(a)(1), (a)(3), (g), 1551 note; Nielsen v. Preap, 586 U.S. 392, 397 n.2 (2019).

⁴ The requirements of INA section 312(a) do not apply to aliens who are unable because of physical or developmental disability or mental impairment to comply with them. INA sec. 312(b)(1), 8 U.S.C. 1423(b)(1).

The language in INA secs. 312 and 332, 8 U.S.C. 1423 and 1443, as well as the Secretary's broad general authority under INA sec. 103(a), 8 U.S.C. 1103(a), and the Homeland Security Act,⁵ authorize the Secretary to issue regulations and delegate certain duties to any organizational unit, including USCIS, to administer the immigration and naturalization of aliens,⁶ and to develop, revise, and administer the naturalization test.

⁵ HSA sec. 102, 6 U.S.C. 112, specifically authorizes the Secretary to delegate any of the Secretary's functions to any officer, employee, or organizational unit of the Department.

⁶ USCIS, previously known as the Bureau of Immigration and Citizenship Services, was established by HSA sec. 451, 6 U.S.C. 271. The Secretary delegated certain authorities to USCIS including broad authority over naturalization and citizenship of aliens. See Delegation 0150.1, Delegation to the Bureau of Citizenship and Immigration Services (Jun. 5, 2003) (“I hereby delegate to the Bureau of Citizenship and Immigration Services . . . [a]uthority under the immigration laws, including but not limited to sections 310 and 341 of the INA (8 U.S.C. 1421 and 1452), to grant applications for naturalization and certificates of citizenship (and revoke such naturalization), including administration of oaths, issuance of certificates, provision of citizenship materials and services to public schools to prepare naturalization candidates, supervision of courts designated under INA sec. 310 to administer oaths, and any other rights and responsibilities relating to the naturalization or citizenship of aliens.”).

The Naturalization Test

Consistent with the above authority and delegation, USCIS is responsible for assessing an alien's knowledge of civics through testing.⁷ As discussed previously, USCIS's authority to administer the civics test also extends to developing and revising the test, as USCIS deems appropriate and necessary.⁸

⁷ See 8 CFR 312.2(c).

⁸ While major revisions of the test, like the 2008 and 2020 efforts have not been very frequent, USCIS updates responses to certain questions on a rolling basis for accuracy. For example, questions may be updated because of Federal or state elections, certain judicial appointments, or due to statutory changes or updates. When test questions are updated, so is the public-facing bank of questions and study materials, if applicable. See USCIS, Check for Test Updates, https://www.uscis.gov/citizenship/find-study-materials-and-resources/check-for-test-updates (last reviewed/updated Jan. 21, 2025). The National Reporting System for Adult Education recommends that tests used for adult education be recertified every 7 years, although most standardized tests are recertified on a 4 or 5 year basis. See 34 CFR 462.14(a).

The civics test has been administered in some form since the early 1900s. As far back as 1908, the former Immigration Service and the Courts determined that a person could not establish the naturalization requirement of showing an attachment to the Constitution unless he or she had some understanding of its provisions.⁹ However, without a standard test, local judges or magistrates administered their own test.¹⁰

⁹ See In re Meakins, 164 F. 334, 335 (E.D. Wash. 1908); see also In re Vasicek, 271 F. 326, 330 (E.D. Mo. 1921).

¹⁰ Prior to 1906, the Federal Government did not oversee naturalization proceedings and naturalization hearings. The questions were normally asked in open court and appear to have been impromptu, with judges basing follow-questions upon the answers provided (during this era many newspapers made it a practice to occasionally send a reporter to the local naturalization courts to record and repot on comical or particularly lackadaisical question and answer sessions.). For example, in 1896, a Pennsylvania court ruled that all applicants for naturalization in his court would be required to demonstrate a “general familiarity with the Federal Constitution and with our method of government, state and national.” In re Northumberland County Naturalization, 5 Pa. D. 597 (Pa.Com.Pl. 1896) In 1902, the Supreme Court of Mississippi judged that “a very ignorant Swede” with little knowledge of US law could become a citizen despite his lack of understanding of the Constitution. Ex parte Johnson, 31 So.208, 209 (1902). The court opined that even “[t]he most ignorant day laborer may so conduct himself as to be as worthy a citizen as any of the numerous great men of the nation.” Id. In most cases, the key question was whether behavior (following the laws, supporting one's family, etc.) could alone be sufficient evidence of attachment to the Constitution.

In the 1930s, the former Immigration and Naturalization Service (INS) under INS Commissioner D.W. MacCormack made reforming naturalization testing a major initiative under his tenure. Commissioner MacCormack issued instructions to create a definite and uniform procedure for examining aliens for citizenship and stressed that the examinations were meant to demonstrate the attachment to the principles of the Constitution rather than memorization of facts, and that the examination be uniform, fair, and devoid of “trick questions.” ¹¹ The Nationality Act of 1940 expanded the agency's authority to test naturalization candidates' knowledge of the Constitution and U.S. Government.¹²

¹¹ See Citizenship Program of the Immigration and Naturalization Service (1936).

¹² See the Nationality Act of 1940, Public Law 76-853, 54 Stat. 1137, 1151 (1940) (“Under the Act, . . . . [s]uch examination shall be limited to inquiry concerning the applicant's . . . understanding of and attachment to the fundamental principles of the Constitution of the United States, and other qualifications to become a naturalized citizen as required by law, and shall be uniform throughout the United States.”).

The Internal Security Act of 1950 put into place what can be considered the modern educational requirements for naturalization, by amending the Nationality Act of 1940 to make knowledge of U.S. history and civics an explicit requirement for naturalization.¹³ These amendments were carried forward essentially without change into the Immigration and Nationality Act (INA) when it was enacted in 1952.¹⁴ INS policy in 1950 maintained the civics test as primarily an oral quiz, with the degree of questioning determined by the alien's education, background, and interactions with the examiner.¹⁵

¹³ See Internal Security Act of 1950, Public Law 81-831, 64 Stat. 987, 1018 (1950) (Adding the requirement that an alien must demonstrate “a knowledge and understanding of the fundamentals of the history and the principles and form of government, of the United States”) (emphasis added).

¹⁴ See Immigration and Nationality Act of 1952, Public Law 82-414, 66 Stat. 163,240 (1952) (Incorporating into Section 312 of the Act the requirement that an alien must demonstrate “a knowledge and understanding of the fundamentals of the history and the principles and form of government, of the United States.”).

¹⁵ See INS, Nationality Manual § 835.82 (updated Apr. 1, 1950).

The Immigration Reform and Control Act of 1986 (IRCA) mandated that aliens legalized under INA 245A meet basic citizenship skills.¹⁶ Aliens who qualified under IRCA could choose to demonstrate their understanding of U.S. history and government by taking a course prescribed in IRCA. For all other aliens, including those aliens who qualified under IRCA who chose not to take a prescribed course, INS developed the “100 civics questions,” based on content from the Federal Textbooks on Citizenship.¹⁷

¹⁶ See Public Law 99-603, 100 Stat. 3359, 3396 (1986). The INS Standardized Citizenship Testing Program was conducted by five non-government companies on behalf of the INS. That program was established in 1991 and ended on August 30, 1998. See English Language, American History and Civics, Standardized Naturalization Test, 63 FR 25080 (May 6, 1998).

¹⁷ See United States, Bureau of Naturalization, Federal Textbook on Citizenship (1918). (First published in 1918 by the former Bureau of Naturalization, it was designed to assist immigrants prepare for naturalization examinations and was distributed to public schools offering citizenship classes).

In years past, the standardization and meaningfulness of the naturalization test came under scrutiny for several reasons, including the lack of standard content, instruments, protocols, or scoring rubrics.¹⁸ In response, the INS began a revision process in 1997 and published an updated naturalization test in 2000 that standardized test questions; however, INS did not at that time standardize the manner in which the test was administered.¹⁹ Since then, USCIS has actively worked to continue standardizing the naturalization civics test and to ensure the test is transparent. USCIS revised the test in 2008 and then again on December 1, 2020.²⁰ USCIS rescinded the December 1, 2020 revisions on February 22, 2021, when USCIS announced it was reverting to the 2008 Naturalization Civics Test beginning on March 1, 2021.²¹

¹⁸ See U.S. Comm'n on Immigration Reform, 105th Cong., Becoming an American: Immigration and Immigrant Policy: 1997 Executive Summary, (1997), pp. 46-47.

¹⁹ See INS, U.S. Dep't of Justice, Policy Memorandum No. 73: Standardization of Procedures for Testing Naturalization Applicants on English and Civic (Dec. 26, 2000) (announced plans to redesign the test, provided sample civics test questions, and provided interim guidance and procedures for testing aliens on English literacy and civics knowledge until the naturalization test was redesigned).

²⁰ See generally, USCIS, Memorandum from L. Francis Cissna, Revision of the Naturalization Civics Test (May 3, 2019), https://www.uscis.gov/sites/default/files/document/memos/Revision_of_the_Naturalization_Civics_Test_D1_Signed_5-3-19.pdf. See also USCIS, PA-2020-20, Policy Alert, Civics Educational Requirement for Purposes of Naturalization (Nov. 13, 2020), https://www.uscis.gov/sites/default/files/document/policy-manual-updates/20201113-CivicsTest.pdf.

²¹ See USCIS, PA-2021-02, Policy Alert, Revising Guidance on Naturalization Civics Educational Requirement (Feb. 22, 2021), https://www.uscis.gov/sites/default/files/document/policy-manual-updates/20210222-CivicsTest.pdf.

The 2020 Naturalization Civics Test

In 2018, after closely examining the 2008 Naturalization Civics Test, USCIS determined that the test could be improved and initiated a revision process. The revision included an expansion of the bank of testing questions, rewording/revising of questions, and adding questions to ensure adequate familiarity with American history and principles and form of U.S. government. These revisions culminated in the 2020 Naturalization Civics Test.²²

²² See USCIS, 128 Civics Questions and Answers (2020 version) (revised Feb. 2021), https://www.uscis.gov/sites/default/files/document/crc/M_1778LG.pdf.

The 2020 Naturalization Civics Test fulfills the statutory requirement that an alien must demonstrate “a knowledge and understanding of the fundamentals of the history, and of the principles and form of government, of the United States” as required under sec. 312 of the INA and further outlined in 8 CFR part 312.

The 2020 Naturalization Civics Test increased the general bank of civics test questions from 100 to 128, the number of test questions for the exam to 20 (from 10), and the number of correct answers needed to pass the civics test to 12 (from 6). Officers asked all 20 questions, and the alien had to answer 12 questions correctly. The test was administered by an officer who asked the alien questions from a computer-generated list of 20 questions selected randomly at prescribed levels of difficulty from the bank of 128 questions. With the 2020 Naturalization Civics Test, USCIS aimed to standardize the administration of the Naturalization Civics Test and ensure that the test provided a meaningful assessment of an alien's knowledge and understanding of U.S. history and government, and that it was uniform and fair for all aliens applying for naturalization.²³

²³ See USCIS, PA-2020-20, Policy Alert, Civics Educational Requirement for Purposes of Naturalization, https://www.uscis.gov/sites/default/files/document/policy-manual-updates/20201113-CivicsTest.pdf.

Although the 2020 Naturalization Civics Test increased the number of questions in the questions bank from 100 to 128, approximately 75 percent of the content came from the 2008 Naturalization Civics Test.²⁴ This included some questions that were taken verbatim from the 2008 Naturalization Civics Test, as well as content that was revised or recontextualized. Some questions from the 2008 version of the civics test no longer appeared in the 2020 Naturalization Civics Test and approximately 25 percent of the test constituted new content.

²⁴ See USCIS, Civics Questions and Answers (2008 version) (revised Aug. 2021) https://www.uscis.gov/sites/default/files/document/questions-and-answers/OoC_100_Questions_2008_Civics_Test_V1.pdf.

Before full implementation, USCIS conducted a pilot of the 2020 Naturalization Civics Test in the summer of 2020.²⁵ The pilot test reviewed the effectiveness and difficulty level of some of the questions with volunteers. USCIS recruited community-based organizations (CBOs) that offered adult citizenship education courses to lawful permanent residents preparing for the naturalization test as volunteers to participate in the pilot test.²⁶ USCIS then worked with the CBOs to help identify students who would volunteer to take the pilot test. The pilot test was administered remotely to students who volunteered to participate in the pilot test. USCIS asked participants the civics test questions orally and then captured their answers on a digital testing platform. The pilot test was originally intended to be administered in-person, but due to restrictions resulting from the COVID-19 pandemic, it was converted to a virtual pilot test. Based on the data and results from the pilot test, USCIS edited questions and answer choices,²⁷ and identified the 20 questions from which to select 10 questions for the aliens over the age of 65 who had at least 20 years of residence as lawful permanent residents (LPRs).²⁸ The pilot helped USCIS determine the language and grammatical structure of individual test items and assign linguistic and cognitive weights to each test item.²⁹

²⁵ See USCIS, USCIS Announces a Revised Naturalization Civics Test (Nov. 13, 2020), https://www.uscis.gov/news/news-releases/uscis-announces-a-revised-naturalization-civics-test (last reviewed/updated Nov. 13, 2020).

²⁶ Id.

²⁷ Id.

²⁸ See INA 312(b)(3), 8 U.S.C. 1423(b)(3).

²⁹ See USCIS, USCIS Announces a Revised Naturalization Civics Test (Nov. 13, 2020), https://www.uscis.gov/news/news-releases/uscis-announces-a-revised-naturalization-civics-test (last updated/reviewed Nov. 13, 2020).

III. The 2025 Naturalization Civics Test

On January 20, 2025, President Trump issued Executive Order (E.O.) 14161, Protecting the United States From Foreign Terrorists and Other National Security and Public Safety Threats.³⁰ The E.O. directs the Secretary to “[e]valuate the adequacy of programs designed to ensure the proper assimilation of lawful immigrants into the United States, and recommend any additional measures to be taken that promote a unified American identity and attachment to the Constitution, laws, and founding principles of the United States[.]”

³⁰ See 90 FR 8451 (Jan. 30, 2025).

Consistent with this directive, USCIS is reimplementing the 2020 Naturalization Civics Test with some modifications (discussed in this section) (“2025 Naturalization Civics Test”) as a measure to promote a unified American identity and attachment to the Constitution, laws, and founding principles of the United States. For the reasons discussed previously, USCIS believes that the 2020 Naturalization Civics Test made important improvements, and thus better fulfills the statutory requirement that an alien must demonstrate “a knowledge and understanding of the fundamentals of the history, and of the principles and form of government, of the United States” as required under INA sec. 312 and further outlined in 8 CFR part 312.

The 2020 Naturalization Civics Test was announced on November 13, 2020, and was administered from December 1, 2020, to April 30, 2021, including to aliens whose naturalization applications were already pending as of the date of implementation. After a change in administration, USCIS gradually reverted to the 2008 Naturalization Civics Test. USCIS announced the reversion on February 22, 2021.³¹ The reversion to the 2008 Naturalization Civics Test was based on a preliminary “determination that the 2020 civics test development process, content, testing procedures, and implementation schedule may inadvertently create potential barriers to the naturalization process [and that the reversion was] consistent with the framework of the Executive Order on Restoring Faith in Our Legal Immigration Systems.” ³² This prior determination was not supported by data or other evidence that the revised 2020 Naturalization Civics Test had or would create such barriers, and the revised test was in place for too short a time for USCIS to gather sufficient data from its administration to be able to make a reasonable assessment of possible impacts.

³¹ See USCIS, USCIS Reverts to the 2008 Version of the Naturalization Civics Test, https://www.uscis.gov/archive/uscis-reverts-to-the-2008-version-of-the-naturalization-civics-test (last reviewed/updated Feb 22, 2021).

³² Id.; E.O. 14012, Restoring Faith in Our Legal Immigration Systems and Strengthening Integration and Inclusion Efforts for New Americans, 76 FR 8277 (Feb. 2, 2021).

USCIS believes that the 2020 Naturalization Civics Test development process and the pilot test made critical updates to the accuracy and relevance of the civics test. USCIS also believes that the changes in the test and process ensured that the administration of the test is standardized, methodical, and fair. USCIS believes that the 2020 Naturalization Civics test better ascertains the understanding and knowledge necessary to qualify for naturalization than the 2008 Naturalization Civics test. In addition, USCIS believes that the publication of this notice in the Federal Register, the advance publication of study materials (as discussed in the next section), along with the implementation schedule based on the date on which a naturalization application is filed, will provide the public, and specifically aliens applying for naturalization, sufficient time to adapt to the new test, while also preserving the reliance interests of aliens who may have already prepared for the 2008 Naturalization Civics Test. USCIS also believes that these implementation improvements will address the underlying concerns that led to the reversion to the 2008 Naturalization Civics Test.

As discussed previously, when USCIS initially implemented the 2020 Naturalization Civics Test, USCIS administered a 20-question test of which the alien had to answer 12 test questions correctly. This was a change from the 2008 Naturalization Civics Test where USCIS administered a 10-question test of which the alien had to answer six questions correctly. In implementing the 2025 Naturalization Civics Test, USCIS will resume administering 20-question tests using the same bank of 128 questions and answers that it used for the 2020 Naturalization Civics Test. USCIS believed and continues to believe that administering a 20-question test is necessary to more comprehensively assess an alien's knowledge of U.S. history and government by ensuring that each test covers a broader set of topics.

USCIS, however, is making a modification in the administration of the test. When USCIS initially implemented the 2020 Naturalization Civics Test, officers were required to orally ask all 20 test questions regardless of whether the alien had already answered a sufficient number to either pass or fail the test. This was a change from the 2008 Naturalization Civics Test where the officers were only required to orally ask questions until the alien either passed or failed the test. In implementing the 2025 Naturalization Civics Test, officers will only be required to ask questions until the alien either passes or fails the test. This is the only difference from the 2020 Naturalization Civics Test. Therefore, when an alien answers 12 questions correctly, the officer will stop administering the test. Similarly, when an alien answers nine questions incorrectly thus failing the test, the officer will stop administering the test. The implementation of the 2025 Naturalization Civics Test, as discussed in this notice, is a procedural change and will not change the passing score.

These changes balance the need of USCIS to ascertain the aliens' knowledge and understanding of the fundamentals of American history, and of the principles and form of government of the United States with the time available for each interview, and take into account feedback USCIS received in response to the initial implementation of the 2020 Naturalization Civics Test.³³

³³ See, e.g., Catholic Legal Immigration Network, Re: Policy Guidance Revisions: Civics Educational Requirement for Purposes of Naturalization (Dec. 1, 2020) (Noting that USCIS will need more time to administer the new test given the increase in the number of questions that must be asked and expressing concern about potential backlogs).

IV. Implementation

In advance of the implementation of the 2025 Naturalization Civics Test, USCIS will update the Naturalization Test and Study Materials ³⁴ and Resources for Educational Programs ³⁵ that aliens may consult to study for the test. These study guide materials will also include the bank of 128 possible civics test questions, from which 20 test questions will be randomly selected for each individual test, along with the answers to those questions. USCIS will also temporarily retain on its website the study materials for the 2008 Naturalization Civics Test to help aliens applying for naturalization who will be administered the 2008 Naturalization Civics Test based on their application filing date to prepare for the civics test.

³⁴ See USCIS, Naturalization Test and Study Resources, https://www.uscis.gov/citizenship/find-study-materials-and-resources (last reviewed/updated Dec. 9, 2024).

³⁵ See USCIS, Resources for Educational Programs, https://www.uscis.gov/citizenship/resources-for-educational-programs (last reviewed/updated Nov. 2, 2024). USCIS will also temporarily retain on its website the study materials for the 2008 Naturalization Civics Test.

To address any reliance interests that aliens applying for naturalization may have as related to the 2008 Naturalization Civics Test, and to ensure sufficient time for the public to become familiar with the revised content, and for aliens to adequately prepare for the 2025 Naturalization Civics Test, USCIS will implement the 2025 Naturalization Civics Test as follows:

1. Aliens who have already filed a naturalization application, or who file a naturalization application less than 30 days after this notice is published in the Federal Register, will take the 2008 Naturalization Civics Test;

2. Aliens who file a naturalization application 30 days or more after this notice is published in the Federal Register will take the 2025 Naturalization Civics Test; and

3. With respect to aliens who qualify for special consideration because they are age 65 or older and have resided in the U.S. as a lawful permanent resident for at least 20 years, USCIS will continue to administer a test with 10 questions from a specially selected bank of 20 test questions from either the 2008 or 2025 Naturalization Civics Test.³⁶ Specifically, aliens who have already filed a naturalization application, or who file a naturalization application less than 30 days after this notice is published in the Federal Register, will be administered a test with questions from the 2008 Naturalization Civics Test, while aliens who file a naturalization application 30 days or more after this notice is published in the Federal Register will be administered a test with questions from the 2025 Naturalization Civics Test. Regardless of their filing date, these aliens will only need to answer six questions correctly to achieve a passing score.

³⁶ See INA 312(b)(3), 8 U.S.C. 1423(b)(3).

Most aliens who will be subject to the 2025 Naturalization Civics Test will not be tested until at least 3 months after the publication of this notice in the Federal Register based on the 30-day delay and interview scheduling times. USCIS believes that the 30-day delay before use of the 2025 Naturalization Civics Test, along with the timing of when the alien files the application for naturalization, allows sufficient notice for aliens applying for naturalization to prepare for the test.³⁷

³⁷ In 2020, USCIS began administering the 2020 Naturalization Civics Test with two weeks advance notice, and the test was administered to both applicants whose applications were pending and those who filed their applications after the announcement of the 2020 Naturalization Civics Test.

Joseph B. Edlow,
Director U.S. Citizenship and Immigration Services, U.S. Department of Homeland Security.

[FR Doc. 2025-18050 Filed 9-17-25; 8:45 am]

BILLING CODE 9111-97-P